DEPARTMENT OF TRANSPORTATION

Office of the Secretary

Notice of Aviation Proceedings, Agreements Filed the Week Ending August 8, 2008

Aviation Proceedings, Agreements filed the week ending August 8, 2008.

The following Agreements were filed with the Department of Transportation under the Sections 412 and 414 of the Federal Aviation Act, as amended (49 U.S.C. 1383 and 1384) and procedures governing proceedings to enforce these provisions. Answers may be filed within 21 days after the filing of the application.

Docket Number: DOT-OST-2008-0241.

Date Filed: August 7, 2008.

Parties: Members of the International Air Transport Association.

Subject: Technical Correction: Mail Vote 574—Resolution 010d, TC3 Within South East Asia, Special Passenger Amending Resolution, from Brunei Darussalam to Singapore (Memo 1232), Intended effective date: 1 September 2008.

Docket Number: DOT-OST-2008-0242.

Date Filed: August 8, 2008.

Parties: Members of the International Air Transport Association.

Subject: Mail Vote 573—Resolutions 010c. TC3/TC23/TC31/TC123 Special Passenger Amending, Resolution to/from Japan (Memo 1470), Intended effective date: 1 October 2008.

Renee V. Wright,
Program Manager, Docket Operations Federal Register Liaison.

[FR Doc. E8-19286 Filed 8-19-08; 8:45 am]

BILLING CODE 4910-9X-P